DEPARTMENT OF ENERGY

Federal Energy Regulatory Commission

[Docket No. RP05-468-000]

Iroquois Gas Transmission System, L.P.; Notice of Filing of Request for Extension of Time

September 1, 2005.

Take notice that on August 25, 2005, Iroquois Gas Transmission System, L.P. (Iroquois) filed a motion for an extension of time to place tariff sheets into effect which were conditionally accepted by an unpublished delegated letter order issued August 18, 2005. Iroquois requests that the tariff sheets become effective November 1, 2005 in lieu of September 1, 2005. Iroquois states that it requires additional time to make modifications to its systems that are necessary for the implementation of Order No. 587-S requirements. Iroquois states that because of the complexity of the changes, limited number of experienced technical personnel and lack of availability of key employees, additional time is needed.

Any person desiring to protest the requested extension must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on the applicant.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time September 8, 2005.

Magalie R. Salas,
Secretary.

[FR Doc. E5-4917 Filed 9-8-05; 8:45 am]

BILLING CODE 6717-01-P